DEPARTMENT OF ENERGY

Federal Energy Regulatory Commission

[Docket No. IN00-1-001]

Kinder Morgan Interstate Gas Transmission LLC, et al; Notice of Filing of Refund Report

July 26, 2000.

Take notice that on June 26, 2000, Kinder Morgan Interstate Gas Transmission LLC, et al. (Kinder Morgan Interstate, et al.), filed a refund report pursuant to a stipulation and consent agreement approved by the Commission's March 29, 2000 order in Docket No. IN00-1-000.

Kinder Morgan Interstate, et al., states that the refund report indicates that the refunds, inclusive of interest, were sent to shippers on May 26, 2000. The refund report details the shippers receiving the refunds and the amount of the refunds.

Any person desiring to protest said filing should file a protest with the Federal Energy Regulatory Commission, 888 First Street, NE., Washington, DC 20426, in accordance with Section 385.211 of the Commission's Rules and Regulations. All such protests must be filed on or before August 7, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-19315 Filed 7-31-00; 8:45 am]

BILLING CODE 6717-01-M